NATIONAL TRANSPORTATION SAFETY BOARD

Sunshine Act Meeting

Agenda

Time and Date: 9:30 a.m., Wednesday, September 6, 2006.

Place: NTSB Conference Center, 429 L'Enfant Plaza SW, Washington, DC 20594.

Status: The one item is open to the public.

Matter to be Considered: 5299U, Most Wanted Safety Recommendations Program—2006 Update on State Issues.

News Media Contact: Keith Holloway, telephone: (202) 314-6100.

Individuals requesting specific accommodations should contact Chris Bisett at (202) 314-6305 by Friday, September 1, 2006.

The public may view the meeting via a live or archived Web cast by accessing a link under News & Events on the NTSB home page at http:\\www.ntsb.gov.

FOR FURTHER INFORMATION CONTACT: Vicky D'Onofrio, (202) 314-6410.

Dated: August 25, 2006.
Vicky D'Onofrio,
Federal Register Liaison Officer.

[FR Doc. 06-7258 Filed 8-25-06; 2:04 pm]

BILLING CODE 7533-01-M